DEPARTMENT OF HEALTH AND HUMAN SERVICES

Centers for Disease Control and Prevention

[Program Announcement 03062]

National Organizations' Support for Oral Health Programs; Notice of Availability of Funds

Application Deadline: July 3, 2003.

A. Authority and Catalog of Federal Domestic Assistance Number

This program is authorized under section 317(k)(2) of the Public Health Service Act, (42 U.S.C. 247b(k)(2)), as amended. The Catalog of Federal Domestic Assistance number is 93.283.

B. Purpose

The Centers for Disease Control and Prevention (CDC) announces the availability of fiscal year (FY) 2003 funds for a cooperative agreement program for the National Organizations' Support for Oral Health Programs. This program addresses the “Healthy People 2010” focus area of Oral Health.

The purpose of the program is to provide support for coordination of effort to identify state oral health program needs; facilitate development of systems and procedures that ensure the inclusion of essential and scientifically sound oral health program components; and enhance the effectiveness of state and local health department programs to prevent and control oral diseases in accordance with “Oral Health in America: A Report of the Surgeon General” and the National Oral Health “Call to Action” and accomplish the oral health-related objectives of Healthy People 2010.

Measures to address performance consistent with this program announcement should be included with the application.

C. Eligible Applicants

Applications may be submitted by national, public and private nonprofit organizations that have developed and implemented nationwide programs and activities designed to promote state and local health department capacity to carry out essential public health functions as they relate to oral disease prevention and control. National organizations that serve as an umbrella organization for their constituents (state and local oral health programs) provide a unique opportunity to address barriers to prevention and control, enhance population based programs, and improve the nation's oral health. The program effort will be national in scope with outcomes useful to all state health agencies.

Note: Title 2 of the United States Code section 1611 states that an organization described in section 501(c)(4) of the Internal Revenue Code that engages in lobbying activities is not eligible to receive Federal funds constituting an award, grant or loan.

D. Funding

Availability of Funds: Approximately $350,000 is available in FY 2003 to fund one award. It is expected that the award will begin on or about June 30, 2003, and will be made for a 12-month budget period within a project period of up to five years. Funding estimates may change.

Continuation awards within an approved project period will be made on the basis of satisfactory progress as evidenced by required reports and the availability of funds.

Use of Funds: Funds may be used to support personnel, and to purchase supplies and services directly related to program activities and consistent with the scope of the cooperative agreement. While the purchase of equipment is discouraged, it will be considered for approval if justified on the basis of being essential to the program and not available from any other source. Funds provided under this cooperative agreement are not to be used to conduct research. Funds may not be used for the purchase or lease of land or buildings, construction of facilities, renovation of existing space, or the delivery of clinical and therapeutic services, personal health services, medications, rehabilitation or other costs associated with screening or treatment for oral diseases.

Recipient Financial Participation: Matching funds are not required for this program.

Funding Preferences: Funding priority will be given to applicants that demonstrate: The ability to analyze, advise, and fulfill liaisons responsibilities for oral health and other related activities within public health agencies; experience in collaboration with other national dental and public health organizations to disseminate information on the needs and services provided by oral disease prevention and control programs and to recommend and advocate for improved policies and programs; and capacity to provide consultation and guidance to state and local health department programs focused on the establishment and improvement of statewide systems of coordinated, population-based oral disease prevention and control.

E. Program Requirements

In conducting activities to achieve the purpose of this program, the recipient will be responsible for the activities listed in 1. Recipient Activities, and CDC will be responsible for the activities listed in 2. CDC Activities.

1. Recipient Activities

a. Develop and implement a plan to design and disseminate new and/or update existing surveillance tools for use by state programs to assess oral health status and needs on the state and community levels.

b. Provide technical assistance, upon request from state oral health programs, to strengthen capacity to conduct oral health surveillance. Technical assistance may be provided through one-on-one consultation, workshops, conferences, or other forums.

c. Develop and implement a plan to revise and disseminate nationally accepted guidelines for state and territorial oral health programs to incorporate lessons learned and new or alternative practices identified as promising.

d. Develop, write, implement, and evaluate a process for assessments of state oral health programs. The process shall address, but is not limited to:

(1) Procedures for submission and processing of state requests for assessments; (2) criteria for and selection of assessment team leader and additional team members; (3) state, team leader, and team member responsibilities; (4) state and assessment team preparations; (5) guidelines for logistical arrangements; (6) the assessment process; (7) report preparation and delivery; (8) post-assessment follow-up. Recipient should also include evaluation activities to measure outcomes of state assessments and determine effectiveness of state program assessment as a strategy that impacts enhancement of oral health program capacity to perform core public health functions pertaining to oral disease prevention and control.

e. Develop, implement, and evaluate a written plan for initiating and maintaining liaison and collaborative associations with other key organizations. At a minimum, the plan should address (1) determination of relevance; (2) development of clear and specific objectives to be achieved through each association; (3) activities to be undertaken; (4) responsibilities, including reporting, of recipient organization representative(s) conducting liaison or collaborative activities; and (5) evaluation.

f. Co-sponsor, with CDC and other agencies and national organizations, an annual public health conference to present information on state-of-the-art oral disease prevention and control research and practices and to facilitate networking across oral health-related disciplines. Recipient responsibilities will include, but may not be limited to, oversight of conference management and collaboration with CDC and other co-sponsors to coordinate, plan, and evaluate the conference each year.

g. Identify, describe, and disseminate promising public health approaches to improving oral health with demonstrated and/or potential success based on criteria that may include effectiveness, efficiency, collaboration, and sustainability. Descriptions and dissemination of identified practices should be designed to support the ability of users to select promising practices and make modifications as needed for application within the context of their own programs, resources, and sociopolitical environments. Recipient will meet annually with CDC to discuss progress and coordination.

h. Enhance dissemination of information among state oral health programs and between state programs and their public/private partner by developing, maintaining, and evaluating information technology (IT) resources. Disseminated information may include, but not be limited to, summaries of features and characteristics of state oral health programs, results of state and community data analysis, effective practices, new initiatives, calendar of events, and questions and answer exchange. Data stored and presented on the web site will be aggregate data from state oral health programs. No sensitive or person-level data will be stored or displayed. It is expected that the recipient will need to provide IT skills in areas such as (1) data base administration (designs, builds and maintains relational databases) with experience in Web-enabled databases; (2) development of static Web pages such as hyper text mark up language (html), dynamic Web pages such as active server pages (asp), and text-based search engines at a minimum; other types of pages or programming languages depending on the goals of the five-year plan; and improvement of usability and accessibility, such as section 508 of the Rehabilitation Act (29 U.S.C. 794d) compliance, of Web sites; and (3) local area network (LAN) and internet server maintenance, including securing or hardening the Web site against attacks.

2. CDC Activities

a. Provide assistance to develop and evaluate an internet-based oral health information system, including technical assistance in epidemiology and surveillance, Web development (including assessment of usability and accessibility), and editorial support.

b. Collaborate with recipient to assess state oral health programs using nationally accepted guidelines.

c. Provide assistance to plan an annual public health conference that includes, but is not limited to, representation at conference development meetings and identification and provision of CDC speakers.

d. Collaborate with recipient to develop and evaluate a process for identifying and disseminating population based oral health practices with demonstrated and/or promising success.

e. Meet annually with recipient to address progress and coordination of activities to identify, describe, and disseminate oral health practices that have demonstrated and/or promised success.

f. Determine information technology needs and disseminate information gathered through the recipient activities under this cooperative agreement.

F. Content

Letter of Intent (LOI): A LOI is requested from each applicant applying for this program announcement. The narrative should be no more than one single-spaced page, printed on one side, with one-inch margins, and unreduced 12-point font. Your LOI will not be evaluated, but will be used to assist CDC in planning for the objective review for this program, and should include the announcement number, a statement of the intent to apply, and the amount of funds to be requested.

Applications: The Program Announcement title and number must appear in the application. Use the information in the Program Requirements, Other Requirements, and Evaluation Criteria sections to develop the application content. Your application will be evaluated on the criteria listed, so it is important to follow them in laying out your program plan. The narrative should be no more than 35 pages, double-spaced, printed on one side, with one-inch margins, and unreduced 12-point font.

The narrative should consist of:

1. Executive Summary

Provide a clear and concise summary of the need for a national oral health program, proposed goals, major objectives and activities required for achievement of program goals and amount of Federal funding requested for budget year one of this cooperative agreement. Include proof of non-profit status.

2. Needs Assessment and Capacity

Describe the documented need for the proposed activities, current activities that provide relevant experience and expertise to perform the proposed activities, and collaborative relationships with other agencies and organizations that will be involved in the proposed activities.

3. Five-Year Plan

Describe realistic five-year goals and measurable, time-phased objectives for each proposed project; the major activities to achieve each objective; plans for collaboration with partners, including the CDC; and the evaluation process that will be used to determine effectiveness and initiate modifications as needed.

4. Year One Operational and Evaluation Plan

Provide specific, measurable, and time-phased year one objectives for each proposed project, the specific activities proposed to achieve the year one objectives, and a projected timetable for completion that displays dates for the accomplishment of tasks and identifies responsible parties. For each year one objective, specify how achievement will be measured and documented.

5. Management and Staffing Plan

Describe how the program will be effectively managed. Include the following:

a. Management structure including the lines of authority and plans for fiscal control.

b.The staff positions responsible for implementation of the program.

c. Qualifications and experience of the designated staff.

6. Budget and Justification

Provide a detailed budget request and line item justification that is consistent with the purpose of the program and the proposed objectives and activities.

G. Submission and Deadline

Letter of Intent (LOI): The letter of intent must be received by 4 p.m. eastern time June 9, 2003. Submit the LOI to the Grants Management Specialist listed in the “Where to Find Additional Information” section of this announcement.

Application Forms: Submit the signed original and two copies of PHS 5161-1 (OMB Number 0920-0428). Forms are available at the following Internet address: www.cdc.gov/od/pgo/forminfo.htm. If you do not have access to the Internet, or if you have difficulty accessing the forms on-line, you may contact the CDC Procurement and Grants Office Technical Information Management Section (PGO-TIM) at: 770-488-2700. Application forms can be mailed to you.

The application must be received by 4 p.m. eastern time July 3, 2003. Submit the application to: Technical Information Management—PA03062, CDC Procurement and Grants Office, 2920 Brandywine Road, Atlanta, GA 30341-4146.

Applications may not be submitted electronically.

CDC Acknowledgement of Application Receipt: A postcard will be mailed by PGO-TIM, notifying you that CDC has received your application.

Deadline: Applications shall be considered as meeting the deadline if they are received before 4 p.m. eastern time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

An independent review group appointed by CDC will evaluate each application against the following criteria (the criteria are listed in descending order by weight of score):

1. Five-Year Plan (35 points)

The extent to which the applicant clearly identifies realistic five-year goals, measurable, time-phased objectives for each proposed project, and the major activities to achieve the objectives; provides a realistic plan for collaboration with partners including CDC in the projects; and describes an evaluation process that is likely to provide meaningful information about the achievement of objectives.

2. Year One Plan (30 points)

The extent to which the year one objectives are specific, measurable and time-phased; tasks and activities are logical; the projected timetable is reasonable and realistic; and measures of progress and achievement are described.

3. Needs Assessment and Capacity (20 points)

The extent to which the applicant demonstrates experience and expertise to perform the proposed activities and provides evidence of collaborative relationships with other agencies and organizations relevant to the achievement of proposed goals and objectives.

4. Management and Staffing Plan (15 points)

The extent to which the applicant demonstrates management structure and staff positions with clear lines of authority and plans for fiscal control, and that designated staff have appropriate qualification and experience.

5. Budget and Justification (Not Scored)

The extent to which the applicant provides a detailed budget and justification consistent with the proposed program objectives and activities.

I. Other Requirements

Technical Reporting Requirements

Provide CDC with original plus two copies of:

1. An interim progress report is due no later than March 30, 2004. Subsequent interim reports will be due on the 30th of March each budget year through March 30, 2009. The interim progress report will serve as your non-competing continuation application, and must contain the following elements:

a. A succinct description of the program accomplishments/narrative and progress made in meeting each Current Budget Period Program Objective during the first six months of the budget period (June 30th through December 31st). See Measures of Performance below.

b. The reason(s) for not meeting established program objectives and strategies to be implemented to achieve unmet objectives.

c. Current Budget Period Financial Progress.

d. A description of New Budget Period Proposed Activities and Objectives.

e. Detailed Line-Item Budget and Justification.

f. For all proposed contracts, provide the name of contractor, method of selection, period of performance, scope of work, and itemized budget and budget justification. If the information is not available, please indicate To Be Determined until the information becomes available, it should be submitted to CDC Procurement and Grants Management Office contact identified in this program announcement.

2. Annual progress and financial status reports, no more than 90 days after the end of the budget period and consist of the same information outlined for the interim progress report in (a) through (c).

3. Final financial and performance reports, no more than 90 days after the end of the project period.

Measures of Performance

Applicants are required to provide measures of performance that will demonstrate the accomplishment of the various identified objectives of the cooperative agreement. Measures of performance must relate to the Recipient Activities (see section E.1.a-h of this announcement) as described below. Measures must be objective and quantitative and must measure the intended outcome. These measures of performance shall be submitted with the interim progress reports and shall be an element of evaluation for continuation.

1. Design and dissemination of new, and/or update of existing surveillance tools for state programs: Documentation should include the need for new and/or updated surveillance tools, description of the development or revision process, identification of those participating in the development and review of the tool(s), and dissemination methods and measurable outputs that demonstrate that the intended audience has been reached.

2. Provision of technical assistance to enhance oral health surveillance capacity in states: Documentation should include an annual summary of requests for technical assistance and responses to such requests; provision of technical assistance for at least five states or all states requesting assistance if fewer than five requests are received during a project year; for each request receiving assistance, document the nature of assistance provided, including method of delivery, amount of time expended, scope of assistance and immediate one-year results (products, skills, etc).

3. Revision and dissemination of national guidelines for state and territorial oral health programs: Documentation should include adherence to the proposed timeline; identification of those participating in the development and review of revisions; the revisions finalized; methods of dissemination and measurable outputs that demonstrate that the intended audience has been reached.

4. Develop, implement and evaluate a written process for state oral health program assessment: Documentation should include adherence to the proposed timeline for process development; inclusion of all components described in the Program Requirements for this announcement; identification of those participating in the development and review of the process; at least 90 percent adherence to the process; rationale for and descriptions of deviations from process; and evaluation of outcomes attributable to site assessments.

5. Develop, implement, and evaluate a written plan for liaison and collaborative associations with other organizations: Documentation should include adherence to the proposed timeline for protocol development; inclusion of all components described in the Program Requirements for this announcement; identification of participants in the plan development and review process; at least 90 percent adherence to the plan; rationale for and descriptions of deviations from plan; and measurable outputs of liaison and collaborative associations.

6. Co-sponsor an annual public health conference: Documentation should include the scope of participation beyond the responsibilities described in the Program Requirements; promotional efforts; number of attendees; the number and percentage of conference sessions that include presentation of state or local population based oral health programs and practices; and demonstration of use of evaluation results in planning and implementation of subsequent conferences.

7. Identify, describe, and disseminate field-tested population based oral health practices with demonstrated and/or promising success: Documentation should include adherence to the proposed timeline for development and dissemination; evidence of a standardized form for submitting practice information; identification and role of participants in development and review process; annual meeting with CDC to discuss progress and coordination; methods of dissemination and measurable outputs that demonstrate that the intended audience has been reached.

8. Develop, maintain and evaluate IT resources: Documentation should include the extent of adherence to the proposed timeline; evidence of compliance with Section 508; evidence of procurement of IT services from a contractor with experience as required to fulfill the goals of the application.

Send all reports to the Grants Management Specialist identified in the “Where to Obtain Additional Information” section of this announcement.

Additional Requirements

The following additional requirements are applicable to this program. For a complete description of each, see Attachment I of the program announcement, as posted on the CDC Web site.

AR-10 Smoke-Free Workplace Requirements.

AR-12 Lobbying Restrictions.

AR-14 Accounting System Requirements.

AR-15 Proof of Non-profit Status.

Executive Order 12372 does not apply to this program.

J. Where To Obtain Additional Information

This and other CDC announcements, the necessary applications, and associated forms can be found on the CDC Web site, Internet address: http://www.cdc.gov. Click on “Funding” then “Grants and Cooperative Agreements”.

For general questions about this announcement, contact: Technical Information Management, CDC Procurement and Grants Office, 2920 Brandywine Road, Atlanta, GA 30341-4146. Telephone: 770-488-2700.

For business management and budget assistance, contact: Nealean Austin, Grants Management Specialist, Procurement and Grants Office, Centers for Disease Control and Prevention, 2920 Brandywine Road, Atlanta, GA 30341-4146. Telephone: 770-488-2754. E-mail address: nea1@cdc.gov.

For program technical assistance, contact: Claudia Vousden, MPH, Division of Oral Health, National Center for Chronic Disease Prevention and Health Promotion, Centers for Disease Control and Prevention, 4770 Buford Highway, MS F-10, Atlanta, GA 30341. Telephone: (770) 488-5509. E-mail address: cbv5@cdc.gov.

Dated: May 12, 2003.
Sandra R. Manning,
Director, Procurement and Grants Office, Centers for Disease Control and Prevention.

[FR Doc. 03-12397 Filed 5-16-03; 8:45 am]

BILLING CODE 4163-18-P